SMALL BUSINESS ADMINISTRATION

[Disaster Declaration #11198]

Kentucky Disaster Number KY-00014

AGENCY: U.S. Small Business Administration.

ACTION: Amendment 1.

SUMMARY: This is an amendment of the Presidential declaration of a major disaster for Public Assistance Only for the Commonwealth of Kentucky (FEMA-1746-DR), dated 02/21/2008.

Incident: Severe Storms, Tornadoes, Straight-line Winds, and Flooding.

Incident Period: 02/05/2008 through 02/06/2008.

Effective Date: 04/01/2008.

Physical Loan Application Deadline Date: 04/21/2008.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Kentucky, dated 02/21/2008, is hereby amended to include the following areas as adversely affected by the disaster.

Primary Counties: Harrison, Nicholas.

All other information in the original declaration remains unchanged.

(Catalog of Federal Domestic Assistance Number 59008)

Herbert L. Mitchell,
Associate Administrator for Disaster Assistance.

[FR Doc. E8-7376 Filed 4-7-08; 8:45 am]

BILLING CODE 8025-01-P